DEPARTMENT OF THE INTERIOR

National Park Service

National Register of Historic Places; Notification of Pending Nominations and Related Actions

Nominations for the following properties being considered for listing or related actions in the National Register were received by the National Park Service before August 22, 2009.

Pursuant to § 60.13 of 36 CFR Part 60, written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by September 23, 2009.

J. Paul Loether,
Chief, National Register of Historic Places/National Historic Landmarks Program.

ARKANSAS

Crawford County

Butterfield Overland Mail Route Lee Creek Road Segment, Lee Creek Rd. W. of AR 220, Cedarville, 09000770

Butterfield Overland Mail Route Lucian Wood Road Segment, Lucian Wood Road between jct of Armer La. and Cedarville Rd. and AR 220, Cedarville, 09000771

Cross County

Wynne Industrial Historic District, Corner of W. Merriman Ave. & Martin Luther King Dr., Wynne, 09000772

Garland County

Joers, Peter Dierks, House, 2111 Park Ave., Hot Springs, 09000773

COLORADO

Denver County

Bastien's Restaurant (Commercial Resources of the East Colfax Avenue Corridor), 3503 E. Colfax Ave., Denver, 09000774

Walters, Manuella C., Duplex, 1728 & 1732 Gilpin St., Denver, 09000775

FLORIDA

Lake County

Mount Dora Historic District (Mount Dora, FL), Roughly 3rd Ave., 11 Ave., Clayton St., Helen St., Mount Dora, 09000777

St. Johns County

North City Historic District, Roughly bounded by Castillo Dr., San Marcos Ave., Old Mission, US 1, Saint Augustine, 09000778

GEORGIA

Clarke County

Jackson Street Cemetery, S. Jackson St., University of Georgia campus, Athens, 09000779

ILLINOIS

Cook County

Calhoun Family, Mr. James Kent, House, 740 Greenwood Ave., Glencoe, 09000780

Dilg, Herbert A., House, 8544 Callie, Morton Grove, 09000781

MARYLAND

Anne Arundel County

Robinson House, 102 Evon Ct., Severna Park, 09000782

Baltimore County

Rodgers Forge Historic District, Roughly bounded by Stanmore Rd., Stevenson La., York Rd., Regester Ave., and Bellona Ave., Baltimore, 09000783

MISSISSIPPI

Clay County

West Point Unified Historic District, Roughly bounded by the rear property lines of resources along E. Main St. to the N., McCord St. to the W., Forest St., West Point, 09000784

Leflore County

Itta Bena Historic District, Roughly bounded by Cemetery St. to the N., Lake Shore Dr. to the E., Lake Side St. to the S., Dewey St. to the W., Itta Bena, 09000785

MISSOURI

Cole County

Moreau Park Historic District, 3714 Old Wardsville Rd., Jefferson City, 09000786

St. Louis County

Moorlands Addition Apartment District, Roughly bounded by Clayton Rd., Glenridge Ave., Wydown Blvd. and (both sides) Westwood Dr., Clayton, 09000787

MONTANA

Carbon County

Smith Mine Historic District, MT 308, Bearcreek, 09000788

PUERTO RICO

San Juan Municipality

San Antonio Railroad Bridge (Historic Bridges of Puerto Rico MPS), Spanning San Antonio Channel at PR 1 E. of San Juan Islet, San Juan, 09000789

SOUTH CAROLINA

Richland County

Hopkins Family Cemetery, Address Restricted, Hopkins, 09000790

VIRGINIA

Alleghany County

Galt's Mill Complex, 1133 Galt's Mill Rd., Madison Heights, 09000791

Buena Vista Independent City

Buena Vista Downtown Historic District, 2000 & 2100 blocks of Magnolia Ave. and adjacent blocks, Buena Vista, 09000792

Dinwiddie County

Zehmer Farm, 9818 Jack Zehmer Rd., McKenney, 09000793

Newport News Independent City

Whittaker Memorial Hospital, 1003 Twenty-Eighth St., Newport News, 09000794

Northampton County

Eastville Historic District, Area includes VA Rt. 13, Old Town Neck Dr., Courthouse Rd., Willow Oak Rd., Rockefellow La., and Stumptown Dr., Eastville, 09000795

Richmond County

Woodland Heights Historic District, Bounded by James River, W. 24th St., Bainbridge St. and Forest Hill Ave., and W. 32nd and 34th Sts., Richmond, 09000796

WISCONSIN

Dodge County

Fountain Inn, 203 Front St., Beaver Dam, 09000797

[FR Doc. E9-21480 Filed 9-4-09; 8:45 am]

BILLING CODE P